DEPARTMENT OF HEALTH AND HUMAN SERVICES

Centers for Disease Control and Prevention

[60Day-19-19ABV; Docket No. CDC-2019-0019]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collection, as required by the Paperwork Reduction Act of 1995. This notice invites comment on a proposed information collection project titled Information Collection on Soil-transmitted Helminth Infections in Alabama and Mississippi. CDC requests OMB approval to collect information on prevalence and distribution of soil-transmitted helminth infections and potential risk factors.

DATES: CDC must receive written comments on or before June 3, 2019.

ADDRESSES: You may submit comments, identified by Docket No. CDC-2019-0019 by any of the following methods:

• Federal eRulemaking Portal: Regulations.gov. Follow the instructions for submitting comments.

• Mail: Jeffrey M. Zirger, Lead, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118. Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Investigation on soil-transmitted helminth infections in Alabama and Mississippi—New—Center for Global Health (CGH), Centers for Disease Control and Prevention (CDC).

Background and Brief Description

Soil-transmitted helminths (STH) are intestinal worms transmitted through contaminated soil. They include roundworms (Ascaris lumbricoides), whipworms (Trichuris trichiura), hookworms (Ancylostoma duodenale and Necator americanus) and the worm Strongyloides stercoralis. These infections were widespread across the American South through the early 20th century, yet despite the historically high burden of STH infections in these endemic areas of the United States, few resources have been devoted to surveillance, prevention, and treatment of STH infections in recent years and they are missed by routine information collection systems. As a result, the current prevalence of STH infections in previously endemic areas is unknown, but socioeconomic and environmental conditions favorable to ongoing transmission persist in areas of the south, including Alabama and Mississippi. Collecting this data, along with biological specimens to document infection, is critical to determine the prevalence of STH infections, their distribution, and risk factors associated with infection. This data will be used to inform the development and implementation of effective and sustainable prevention and control measures in affected areas.

The core data elements were developed with input from community advocates, and local, state, and federal public health and environmental health partners in both Alabama and Mississippi. The questionnaires have been designed for self-completion by respondents. The data that are collected will be pooled and analyzed by university partners and CDC, to generate hypotheses about potential risk factors for infection.

CDC requests OMB approval to collect critical information, not available otherwise, on the prevalence and distribution of disease and on risk factors, knowledge, attitudes and/or practices related to STH infections among residents in at-risk areas in Alabama and Mississippi. This information is critical for planning and implementation of disease prevention and control strategies targeting STH infections in the southeastern United States.

This data collection is not expected to entail substantial burden for respondents. The estimated total annualized burden associated with this data collection is 220 hours (approximately 958 individuals interviewed × 10 minutes/response). There will be no costs to respondents other than their time.

Estimated Annualized Burden Hours
Type of respondents | Form name | Number of respondents | Number of responses per respondent | Average burden per response (in hrs.) | Total burden (in hrs.)
Individuals | Questionnaire—Alabama | 600 | 1 | 10/60 | 100
Individuals | Questionnaire—Mississippi | 358 | 1 | 10/60 | 60
Individuals | Anthropometric data—Mississippi | 358 | 1 | 10/60 | 60
Total |  |  |  |  | 220

Jeffrey M. Zirger,
Lead, Information Collection Review Office, Office of Scientific Integrity, Office of Science, Centers for Disease Control and Prevention.

[FR Doc. 2019-06306 Filed 4-1-19; 8:45 am]

BILLING CODE 4163-18-P